UNITED STATES INTERNATIONAL TRADE COMMISSION

[USITC SE-17-028]

Sunshine Act Meeting

AGENCY HOLDING THE MEETING: United States International Trade Commission.

TIME AND DATE: July 14, 2017 at 11:00 a.m.

PLACE: Room 101, 500 E Street SW., Washington, DC 20436, Telephone: (202) 205-2000.

STATUS: Open to the public.

MATTERS TO BE CONSIDERED:

1. Agendas for future meetings: none.

2. Minutes.

3. Ratification List.

4. Vote in Inv. Nos. 701-TA-579-580 and 731-TA-1369-1373 (Preliminary)(Fine Denier Polyester Staple Fiber from China, India, Korea, Taiwan, and Vietnam). The Commission is currently scheduled to complete and file its determinations on July 17, 2017; views of the Commission are currently scheduled to be completed and filed on July 24, 2017.

5. Vote in Inv. Nos. 701-TA-581 and 731-TA-1374-1376 (Preliminary) (Citric Acid and Certain Citrate Salts from Belgium, Colombia, and Thailand). The Commission is currently scheduled to complete and file its determinations on July 17, 2017; views of the Commission are currently scheduled to be completed and filed on July 24, 2017.

6. Outstanding action jackets: None.

In accordance with Commission policy, subject matter listed above, not disposed of at the scheduled meeting, may be carried over to the agenda of the following meeting.

By order of the Commission.
Issued: July 5, 2017.
William R. Bishop,
Supervisory Hearings and Information Officer.

[FR Doc. 2017-14449 Filed 7-6-17; 11:15 am]

BILLING CODE 7020-02-P